DEPARTMENT OF COMMERCE

International Trade Administration

[C-475-819]

Certain Pasta From Italy: Final Results of Countervailing Duty Administrative Review; 2015

AGENCY: Enforcement and Compliance, International Trade Administration, Department of Commerce.

SUMMARY: On July 25, 2017, the Department of Commerce (the Department) published the preliminary results of the administrative review of the countervailing duty order on pasta from Italy. The period of review (POR) is January 1, 2015, through December 31, 2015. The review covers one producer/exporter of subject merchandise. We invited parties to comment on the Preliminary Results. None were received. Accordingly, for the final results, we continue to find that that Liguori Pastificio dal 1820 S.p.A. (Liguori) received countervailable subsidies during the POR.

DATES: Applicable October 16, 2017.

FOR FURTHER INFORMATION CONTACT: Mary Kolberg, AD/CVD Operations, Office I, Enforcement and Compliance, International Trade Administration, U.S. Department of Commerce, 1401 Constitution Avenue NW., Washington, DC 20230; telephone: (202) 482-1785.

SUPPLEMENTARY INFORMATION:

Background

On July 25, 2017, the Department published the Preliminary Results of the administrative review.¹ The Department gave interested parties an opportunity to comment on the Preliminary Results. None were received. The Department has conducted this review in accordance with section 751 of the Tariff Act of 1930, as amended (the Act).

¹ See Certain Pasta from Italy: Preliminary Results of Countervailing Duty Administrative Review; 2015, 82 FR 34481 (July 25, 2017) (Preliminary Results) and accompanying Preliminary Decision Memorandum.

Scope of the Order

Imports covered by the Order are shipments of certain non-egg dry pasta in packages of five pounds four ounces or less, whether or not enriched or fortified or containing milk or other optional ingredients such as chopped vegetables, vegetable purees, milk, gluten, diastasis, vitamins, coloring and flavorings, and up to two percent egg white. The pasta covered by the scope of the Order is typically sold in the retail market, in fiberboard or cardboard cartons, or polyethylene or polypropylene bags of varying dimensions.

Excluded from the scope of the Order are refrigerated, frozen, or canned pastas, as well as all forms of egg pasta, with the exception of non-egg dry pasta containing up to two percent egg white. Multicolored pasta, imported in kitchen display bottles of decorative glass that are sealed with cork or paraffin and bound with raffia, is excluded from the scope of the Order.² Pursuant to the Department's May 12, 2011 changed circumstances review, effective January 1, 2009, gluten-free pasta is also excluded from the scope of the Order.³ Effective January 1, 2012, ravioli and tortellini filled with cheese and/or vegetables are also excluded from the scope of the Order.⁴

² See Memorandum to Richard Moreland, dated August 25, 1997, which is on file in the CRU.

³ See Certain Pasta from Italy: Final Results of Countervailing Duty Changed Circumstances Review and Revocation, In Part, 76 FR 27634 (May 12, 2011).

⁴ See Certain Pasta from Italy: Final Results of Antidumping Duty and Countervailing Duty Changed Circumstances Reviews and Revocation, in Part 79 FR 58319, 58320 (September 29, 2014).

Also excluded are imports of organic pasta from Italy that are certified by an EU authorized body in accordance with the United States Department of Agriculture's National Organic Program for organic products. The organic pasta certification must be retained by exporters and importers and made available to U.S. Customs and Border Protection or the Department of Commerce upon request.

The merchandise subject to review is currently classifiable under items 1901.90.90.95 and 1902.19.20 of the Harmonized Tariff Schedule of the United States (HTSUS). Although the HTSUS subheadings are provided for convenience and customs purposes, the written description of the merchandise subject to the Order is dispositive.

Final Results of Review

Because the Department received no comments after the Preliminary Results for consideration for these final results, we have made no changes to the Preliminary Results. As a result of this review, we determine that countervailable subsidies were provided to the respondent for the period January 1, 2015, through December 31, 2015, at the following rate: ⁵

⁵ We have made no changes to this rate since the Preliminary Results. Therefore, no additional disclosure of calculations is necessary for these final results under 19 CFR 351.224(b).

Producer/exporter | Net subsidy rate (percent)
Liguori Pastificio dal 1820 S.p.A. | 1.62

Assessment Rates

In accordance with 19 CFR 351.212(b)(2), the Department intends to issue assessment instructions to U.S. Customs and Boarder Protection (CBP) 15 days after the date of publication of these final results to liquidate shipments of subject merchandise produced by Liguori entered, or withdrawn from warehouse, for consumption on or after January 1, 2015 through December 31, 2015 at the ad valorem rate listed above.

Cash Deposit Instructions

The Department also intends to instruct CBP to collect cash deposits of estimated CVDs in the amount shown above for shipments of subject merchandise by Liguori entered, or withdrawn from warehouse, for consumption on or after the date of publication of the final results of this review. For all non-reviewed firms, we will instruct CBP to collect cash deposits of estimated countervailing duties at the most recent company-specific or all-others rate applicable to the company. These cash deposit requirements, when imposed, shall remain in effect until further notice.

Administrative Protective Orders

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

We are issuing and publishing these results in accordance with sections 751(a)(1) and 777(i)(1) of the Act.

Dated: October 10, 2017.
Gary Taverman,
Deputy Assistant Secretary for Antidumping and Countervailing Duty Operations, performing the non-exclusive functions and duties of the Assistant Secretary for Enforcement and Compliance.

[FR Doc. 2017-22328 Filed 10-13-17; 8:45 am]

BILLING CODE 3510-DS-P